DEPARTMENT OF HEALTH AND HUMAN SERVICES

National Institutes of Health

National Cancer Institute; Notice of Meeting

Pursuant to section 10(d) of the Federal Advisory Committee Act, as amended (5 U.S.C. Appendix 2), notice is hereby given of the meeting of the National Cancer Institute Board of Scientific Advisors.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(6) and 552b(c)(9)(B), Title 5 U.S.C. The discussions could reveal information of a personal nature where disclosure would constitute a clearly unwarranted invasion of personal privacy and the premature disclosure of discussions related to personnel and confidential administrative information would be likely to significantly frustrate the subsequent implementation of recommendations.

Name of Committee: National Cancer Institute Board of Scientific Advisors.

Date: November 16-17, 2000.

Open: November 16, 8:30 am to 5 pm; November 17, 8:30 am to 2 pm.

Agenda: Report of the Director, NCI; Ongoing and New Business, Status Reports, Budget Presentation, Reports of Special Initiatives, and RFA/RFP Concept Reviews.

Closed: November 16, 5 pm to 6 pm.

Agenda: To review and evaluate personnel and programmatic issues.

Place: National Cancer Institute, 9000 Rockville Pike, Building 31, C Wing, 6 Floor, Conference Room 10, Bethesda, MD 20892.

Contact Person: Paulette S. Gray, Ph.D., Executive Secretary, Deputy Director, Division of Extramural Activities, National Cancer Institute, National Institutes of Health, 6116 Executive Boulevard, Room 8141, Bethesda, MD 20892, (301) 496-4218.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: Octoberr 16, 2000.
LaVerne Y. Stingfield,
Director, Office of Federal Advisory Committee Policy, National Institutes of Health.

[FR Doc. 00-27350 Filed 10-24-00; 8:45 am]

BILLING CODE 4140-01-M